FEDERAL COMMUNICATIONS COMMISSION

[Report No. AUC-06-67-B (Auction No. 67); Docket No. 06-38; DA 06-871]

Closed Action of 400 MHz Air-Ground Radiotelephone Service Licenses (Auction No. 67) is Cancelled

AGENCY: Federal Communications Commission.

ACTION: Notice.

SUMMARY: This document announces the cancellation of the 400 MHz Air-Ground Radiotelephone Service License Auction No. 67.

FOR FURTHER INFORMATION CONTACT: Howard Davenport at (202) 418-0660 or Linda Sanderson at (717) 338-2868.

SUPPLEMENTARY INFORMATION: This is a summary of the Auction No. 67 Cancellation Public Notice released on April 20, 2006. The complete text of the Auction No. 67 Cancellation Public Notice and related Commission documents is available for public inspection and copying from 8 a.m. to 4:30 p.m. Monday through Thursday or from 8 a.m. to 11:30 a.m. on Friday at the FCC Reference Information Center, Portals II, 445 12th Street, SW., Room CY-A257, Washington, DC 20554. The Auction No. 67 Cancellation Public Notice and related Commission documents may also be purchased from the Commission's duplicating contractor, Best Copy and Printing, Inc. (BCPI), Portals II, 445 12th Street, SW., Room CY-B402, Washington, DC 20554, telephone 202-488-5300, facsimile 202-488-5563, or you may contact BCPI at its Web site: http://www.BCPIWEB.com. When ordering documents from BCPI please provide the appropriate FCC document number, for example, DA 06-871. The Auction No. 67 Cancellation Public Notice and related documents are also available on the Internet at the Commission's Web site: http://wireless.fcc.gov/auctions/67/.

1. The Wireless Telecommunications Bureau (Bureau) announces the cancellation of the auction of nine site-based licenses in the 400 MHz general aviation Air-Ground Radiotelephone Service which had been scheduled to begin on August 23, 2006.

2. On March 3, 2006, the Bureau released Auction No. 67 Comment Public Notice, 71 FR 12698, March 13, 2006, announcing the schedule for Auction No. 67 and seeking comment on reserve process or minimum opening bids amount and the procedures to be used in the auction. Participation in Auction No. 67 was to be limited to certain identified parties that had previously filed mutually exclusive applications for the nine 400 MHz Air-Ground licenses. That public notice advised each applicant of the requirement to provide supplemental information by 6 p.m. ET on April 5, 2006, and warned that failure to do so by the deadline would result in dismissal of its application and ineligibility to participate in the auction.

3. The Bureau received no supplemental information regarding any of the nine applicants for Auction No. 67. Accordingly, each of the previously filed FCC Form 601 applications will be dismissed, thus eliminating the need to conduct Auction No. 67.

Federal Communications Commission.
Gary D. Michaels,
Deputy Chief, Auctions and Spectrum Access Division, WTB.

[FR Doc. E6-7432 Filed 5-16-06; 8:45 am]

BILLING CODE 6712-01-P